ENVIRONMENTAL PROTECTION AGENCY

[FRL-8249-9]

An Inventory of Sources and Environmental Releases of Dioxin-Like Compounds in the United States for the Years 1987, 1995 and 2000

AGENCY: Environmental Protection Agency.

ACTION: Notice of availability.

SUMMARY: The U.S. Environmental Protection Agency (EPA) is announcing the availability of a final report titled, “An Inventory of Sources and Environmental Releases of Dioxin-Like Compounds in the United States for the Years 1987, 1995 and 2000” (EPA/600/P-03/002F), which was prepared by the National Center for Environmental Assessment (NCEA) within EPA's Office of Research and Development (ORD).

DATES: This document will be available on or about December 1, 2006.

ADDRESSES: The document will be available electronically through the NCEA Web site at http://www.epa.gov/ncea. A limited number of paper copies will be available from the EPA's National Service Center for Environmental Publications (NSCEP), P.O. Box 42419, Cincinnati, OH 45242; telephone: 1-800-490-9198; facsimile: 302-604-3408; e-mail: nscep@bps-lmit.com. Please provide your name, your mailing address, the title and the EPA number of the requested publication.

FOR FURTHER INFORMATION CONTACT: The Technical Information Staff, National Center for Environmental Assessment/Washington Office (8623D), U.S. Environmental Protection Agency, 1200 Pennsylvania Avenue, NW., Washington, DC 20460. Telephone: 202-564-3261; fax: 202-565-0050; e-mail: nceadc.comment@epa.gov.

SUPPLEMENTARY INFORMATION: The purpose of this report is to present a comprehensive inventory and overview of sources and environmental releases of dioxin-like compounds in the United States. The major identified sources of environmental releases of dioxin-like compounds are grouped into six broad categories: Combustion sources, metals smelting, refining and process sources, chemical manufacturing sources, natural sources, and environmental reservoirs. Estimates of annual releases to land, air, and water are presented for each source category and summarized for reference years 1987, 1995 and 2000. The quantitative results are expressed in terms of the toxicity equivalent (TEQ) of the mixture of polychlorinated dibenzo-p-dioxin (CDD) and polychlorinated dibenzofuran (CDF) compounds present in environmental releases using a procedure sanctioned by the World Health Organization (WHO) in 1998. This TEQ procedure translates the complex mixture of CDDs and CDFs characteristic of environmental releases into an equivalent toxicity concentration of 2,3,7,8-tetrachlorodibenzo-p-dioxin (2,3,7,8-TCDD), the most toxic member of this class of compounds. Using this WHO procedure, the annual releases of TEQDF-WHO98 to the U.S. environment over the three reference years are 13,965 g in 1987, 3,444 g in 1995, and 1,422 g in 2000. This analysis indicates that between reference years 1987 and 2000, there was approximately a 90% reduction in the releases of dioxin-like compounds to the circulating environment of the United States from all known sources combined. In 1987 and 1995, the leading source of dioxin emissions to the U.S. environment was municipal waste combustion; however, because of reductions in dioxin emissions from municipal waste combustors, it dropped to the fourth ranked source in 2000. Burning of domestic refuse in backyard burn barrels remained fairly constant over the years, but in 2000, it emerged as the largest source of dioxin emissions to the U.S. environment.

Dated: November 22, 2006.
George Alapas,
Deputy Director, National Center for Environmental Assessment.

[FR Doc. E6-20294 Filed 11-30-06; 8:45 am]

BILLING CODE 6560-50-P